ENVIRONMENTAL PROTECTION AGENCY

40 CFR Parts 239 and 258

[FRL-7836-6]

Adequacy of Minnesota Municipal Solid Waste Landfill Program

AGENCY: Environmental Protection Agency (EPA).

ACTION: Removal of immediate final rule.

SUMMARY: Because EPA received adverse comment, we are removing the immediate final rule for Adequacy of Minnesota Municipal Solid Waste Landfill Program. We published the immediate final rule on September 10, 2004 (69 FR 54756), approving Minnesota's research, development, and demonstration (RD&D) permit requirements. We stated in the immediate final rule that unless adverse comments were received on or before October 12, 2004, the final determination would be effective on November 9, 2004. We subsequently received adverse comments on October 12, 2004. As a result we are publishing this notice of removal in the Federal Register. We will address the comment in a subsequent final action based on the parallel proposal also published on September 10, 2004 (69 FR 54760).

DATES: As of November 12, 2004, EPA removes the immediate final rule published on September 10, 2004 (69 FR 54756).

FOR FURTHER INFORMATION CONTACT: Donna Twickler, mailcode DW-8J, Waste Management Branch, U.S. EPA Region 5, 77 West Jackson Boulevard, Chicago, Illinois 60604, telephone (312) 886-6184, twickler.donna@epa.gov.

Dated: November 3, 2004.
Norman Niedergang,
Acting Regional Administrator, Region 5.

[FR Doc. 04-25095 Filed 11-10-04; 8:45 am]

BILLING CODE 6560-50-P